DEPARTMENT OF AGRICULTURE

Agricultural Marketing Service

[Doc. No. AMS-DA-18-0070]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection for Export Health Certificate Request Forms.

DATES: Comments on this notice must be received by January 7, 2019 to be assured of consideration.

ADDRESSES: Interested persons are invited to submit comments concerning this notice by using the electronic process available at www.regulations gov. Written comments may also be submitted to Camia R. Lane, Grading and Standardization Branch, Dairy Programs, Agricultural Marketing Service, U.S. Department of Agriculture, Room 2968-South Building, 1400 Independence Avenue SW, Washington, DC 20250-0230: Tel: (202) 720-1671, Fax: (202) 720-2643, or via email at Camia.Lane@ams.usda.gov. All comments should reference the docket number (same number as above assigned by Originating Program), the date, and the page number of this issue of the Federal Register. All comments received will be posted without change, including any personal information provided, at www.regulations.gov and will be included in the record and made available to the public.

FOR FURTHER INFORMATION CONTACT: Camia R. Lane, Grading and Standardization Branch, Dairy Programs, Agricultural Marketing Service, U.S. Department of Agriculture, Room 2968-South Building, 1400 Independence Avenue SW, Washington, DC 20250-0230: Tel: (202) 720-1671, Fax: (202) 720-2643.

SUPPLEMENTARY INFORMATION:

Title: Export Certificate Request Forms.

OMB Number: 0581-0283.

Expiration Date of Approval: January 31, 2019.

Type of Request: Extension and revision of a currently approved information collection.

Abstract: The dairy grading program is a voluntary user fee program authorized under the Agricultural Marketing Act (AMA) of 1946 (7 U.S.C.1621-1627). The regulations governing inspection and grading services of manufactured or processed dairy products are contained in 7 CFR part 58. Importing countries require certification as to production methods and sources of raw ingredients for dairy products. USDA, AMS, Dairy Grading Branch is the designated agency for issuing sanitary certificates for dairy products in the United States. Exporters must request export certificates from USDA.

Need and Use of the Information: To provide the required information on dairy export sanitary certificates AMS must collect the information from the exporter. The information required on the sanitary certificates varies from country to country requiring specific forms for each country. Such information includes: Identity of the importer and exporter, to describe consignment specifics, and identify border entry point at the country of destination. The information gathered using these forms is only used to create the export sanitary certificate. There has been a change in the overall burden of this submission.

Estimate of Burden: Public reporting burden for this collection of information is estimated to average .20 hours per response.

Respondents: Dairy product manufacturers, consultants, installers, dairy equipment fabricators and meat and poultry processing equipment fabricators.

Estimated Number of Respondents: 475.

Estimated Total Annual Responses: 51,800.

Estimated Number of Responses per Respondent: 109.

Estimated Total Annual Burden on Respondents: 10,345.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Camia R. Lane, Grading and Standardization Branch, Dairy Programs, Agricultural Marketing Service, U.S. Department of Agriculture, Room 2968-South Building, 1400 Independence Avenue SW, Washington, DC 20250-0230: Tel: (202) 720-1671, Fax: (202) 720-2643, or via email at Camia.Lane@ams.usda.gov. All comments received will be available for public inspection during regular business hours at the same address.

All responses to this notice will be summarized and included in the request for OMB approval. All comments will become a matter of public record.

Dated: November 5, 2018.
Bruce Summers,
Administrator, Agricultural Marketing Service.

[FR Doc. 2018-24454 Filed 11-7-18; 8:45 am]

BILLING CODE 3410-02-P